ENVIRONMENTAL PROTECTION AGENCY

[EPA-HQ-OPPT-2012-0460; FRL 9912-37-OEI]

Information Collection Request Submitted to OMB for Review and Approval; Comment Request; Correction of Misreported Chemical Substances on the Toxic Substances Control Act Chemical Substances Inventory (Renewal)

AGENCY: Environmental Protection Agency (EPA).

ACTION: Notice.

SUMMARY: EPA has submitted the following information collection request (ICR) to the Office of Management and Budget (OMB) for review and approval in accordance with the Paperwork Reduction Act (44 U.S.C. 3501 et seq.): Correction of Misreported Chemical Substances on the Toxic Substances Control Act (TSCA) Chemical Substances Inventory (EPA ICR No. 1741.07, OMB Control No. 2070-0145). EPA did not receive any comments in response to the previously provided public review opportunity issued in the Federal Register on November 29, 2013 (78 FR 71603). With this submission, EPA is providing an additional 30 days for public comments. An Agency may not conduct or sponsor and a person is not required to respond to a collection of information unless it displays a currently valid OMB control number.

DATES: Comments must be submitted on or before July 28, 2014.

ADDRESSES: Submit your comments to (1) EPA, referencing Docket ID Number EPA-HQ-OPPT-2012-0460, online using http://www.regulations.gov (our preferred method) or by mail to: EPA Docket Center, Environmental Protection Agency, Mail Code 28221T, 1200 Pennsylvania Ave. NW., Washington, DC 20460, and (2) OMB, referencing OMB Desk Officer for EPA and OMB Control No. 2070-0145, via email to oira_submission@omb.eop.gov.

EPA's policy is that all comments received will be included in the public docket without change including any personal information provided, unless the comment includes profanity, threats, information claimed to be Confidential Business Information (CBI) or other information whose disclosure is restricted by statute.

FOR FURTHER INFORMATION CONTACT: Pamela Myrick, Deputy Director, Environmental Assistance Division, Office of Pollution Prevention and Toxics, Mail code: 7408M, Environmental Protection Agency, 1200 Pennsylvania Ave. NW., Washington, DC 20460; telephone number: 202-554-1404; fax number: 202-564-8251; email address: TSCA-Hotline@epa.gov.

SUPPLEMENTARY INFORMATION:

Docket: The ICR, which explains in detail the information collection activities and the related burden and cost estimates, is summarized in this document and is available in the docket for this ICR. The docket can be viewed online at http://www.regulations.gov or in person at the EPA Docket Center, William Jefferson Clinton (WJC) West Building, Room 3334, 1301 Constitution Ave. NW., Washington, DC. The telephone number for the Docket Center is 202-566-1744. For additional information about EPA's public docket, visit http://www.epa.gov/dockets.

ICR Title: Correction of Misreported Chemical Substances on the Toxic Substances Control Act (TSCA) Chemical Substances Inventory.

ICR numbers: EPA ICR No. 1741.07, OMB Control No. 2070-0145.

ICR status: The current OMB approval for this ICR is scheduled to expire on June 30, 2014. Under OMB regulations, the Agency may continue to conduct or sponsor the collection of information while this submission is pending at OMB.

Abstract: Section 8(b) of TSCA requires EPA to compile and keep current an inventory of chemical substances in commerce, which is a listing of chemical substances manufactured, imported, and processed for commercial purposes in the United States. The purpose of the Inventory is to define, for the purpose of TSCA, what chemical substances exist in U.S. commerce. Since the Inventory thereby performs a regulatory function by distinguishing between existing chemicals and new chemicals, which TSCA regulates in different ways, it is imperative that the Inventory be accurate.

However, from time to time, EPA or respondents discover that substances have been incorrectly described by reporting companies. Reported substances have been unintentionally misidentified as a result of simple typographical errors, the misidentification of substances, or the lack of sufficient technical or analytical information to characterize fully the exact chemical substances. EPA has developed guidelines (45 FR 50544, July 29, 1980) under which incorrectly described substances listed in the Inventory can be corrected. The correction mechanism ensures the accuracy of the Inventory without imposing an unreasonable burden on the chemical industry. Without the Inventory correction mechanism, a company that submitted incorrect information would have to file a pre-manufacture notification (PMN) under TSCA section 5 to place the correct chemical substance on the Inventory whenever the previously reported substance is found to be misidentified. This would impose a much greater burden on both EPA and the submitter than the existing correction mechanism. This information collection applies to reporting and recordkeeping activities associated with the correction of misreported chemical substances found on the TSCA Inventory.

Respondents may claim all or part of a response confidential. EPA will disclose information that is covered by a claim of confidentiality only to the extent permitted by, and in accordance with, the procedures in TSCA section 14 and 40 CFR part 2.

Form Numbers: EPA Form 7710-3C.

Respondents/affected entities: Entities potentially affected by this action include manufacturers or importers of chemical substances, mixtures or categories listed on the TSCA Inventory and regulated under TSCA section 8, who had reported to EPA during the initial effort to establish the TSCA Inventory in 1979, and who need to make a correction to that submission.

Respondent's obligation to respond: Voluntary.

Estimated number of respondents: 9.

Frequency of response: On occasion.

Total estimated burden: 20 hours per year. Burden is defined at 5 CFR 1320.3(b).

Total estimated cost: $1,265 per year, includes $0 annualized capital or operation and maintenance costs.

Changes in the Estimates: There is no change in the number of hours in the total estimated respondent burden compared with the ICR currently approved by OMB.

Spencer W. Clark,
Acting Director, Collection Strategies Division.

[FR Doc. 2014-14902 Filed 6-25-14; 8:45 am]

BILLING CODE 6560-50-P